DEPARTMENT OF LABOR

Office of the Secretary

Agency Information Collection Activities; Submission for OMB Review; Comment Request; Certification and Qualification To Examine, Test, Operate Hoists and Perform Other Duties

ACTION: Notice of availability; request for comments.

SUMMARY: The Department of Labor (DOL) is submitting this Mining Safety and Health Administration (MSHA)-sponsored information collection request (ICR) to the Office of Management and Budget (OMB) for review and approval in accordance with the Paperwork Reduction Act of 1995 (PRA). Public comments on the ICR are invited.

DATES: The OMB will consider all written comments that agency receives on or before February 16, 2021.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION:

Section 103(h) of the Federal Mine Safety and Health Act of 1977 (Mine Act), 30 U.S.C. 813(h), authorizes MSHA to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal or other mines.

Under section 103(a) of the Mine Act, authorized representatives of the Secretary or Secretary of Health and Human Services must make frequent inspections and investigations in coal or other mines each year for the purpose of gathering information with respect to mandatory health or safety standards.

Title 30 Code of Federal Regulations (CFR) 75.159 and 77.106 require coal mine operators to maintain a list of persons who are certified and qualified to perform duties under 30 CFR parts 75 and 77, such as examining for hazardous conditions, testing for methane and oxygen deficiency, conducting tests of air flow, performing electrical work, repairing energized surface high-voltage lines, and performing the duties of hoisting engineer. This information collection is necessary to ensure that only persons who are properly trained and sufficiently experienced are permitted to perform these duties. Although MSHA does not specify a format for the recordkeeping, it normally consists of the names of the certified and qualified persons listed in two columns on a sheet of paper. One column is for certified persons and the other is for qualified persons.

Sections 75.100 and 77.100 pertain to the certification of certain persons to perform specific examinations and tests. Sections 75.155 and 77.105 outline the requirements necessary to be qualified as a hoisting engineer or hoist-man. Under sections 75.160, 75.161, 77.107, and 77.107-1, the mine operator must have an approved training plan developed to train and retrain the qualified and certified persons to effectively perform their tasks.

These regulations recognize State certification and qualification programs. However, where State programs are not available, MSHA may certify and qualify miners to carry out certain functions prescribed in the Mine Act. Under this program, MSHA will qualify or certify individuals if these individuals meet the requirements for qualification or certification, fulfill any applicable retraining requirements, and remain employed at the same mine or by the same independent contractor.

Applications for MSHA qualification or certification are submitted to the MSHA Qualification and Certification Unit in Denver, Colorado. MSHA Form 5000-41, Safety & Health Activity Certification or Hoisting Engineer Qualification Request provides the coal mining industry with a standardized reporting format that expedites the certification and qualification process while ensuring compliance with the regulations. MSHA uses the information collected through this form to determine if applicants satisfy the requirements to obtain the certification or qualification sought. Persons must meet certain minimum experience requirements depending on the type of certification or qualification sought. For additional substantive information about this ICR, see the related notice published in the Federal Register on September 28, 2020 (85 FR 60837).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Certification and Qualification To Examine, Test, Operate Hoists and Perform Other Duties.

OMB Control Number: 1219-0127.

Affected Public: Businesses or other for-profits institutions.

Total Estimated Number of Respondents: 674.

Total Estimated Number of Responses: 3,259.

Total Estimated Annual Time Burden: 330 hours.

Total Estimated Annual Other Costs Burden: $56.

Authority: 44 U.S.C. 3507(a)(1)(D).

Dated: January 8, 2021.
Anthony May,
Management and Program Analyst.

[FR Doc. 2021-00698 Filed 1-13-21; 8:45 am]

BILLING CODE 4510-43-P